DEPARTMENT OF THE INTERIOR

Fish and Wildlife Service

[FWS-R8-ES-2014-N066; FXES11130800000-145-FF08EVEN00]

Proposed Safe Harbor Agreement With the Bishop Paiute Tribe for Owens Pupfish, Inyo County, California

AGENCY: Fish and Wildlife Service, Interior.

ACTION: Notice of availability; receipt of permit application.

SUMMARY: We, the U.S. Fish and Wildlife Service (Service), have received, from the Bishop Paiute Tribe (applicant), an application for an enhancement of survival permit for the federally endangered Owens pupfish, under the Endangered Species Act of 1973, as amended (Act). This permit application includes a proposed safe harbor agreement (agreement) between the applicant and the Service. The agreement and permit application are available for public comment.

DATES: To ensure we are able to consider your comments, please send them to us by August 18, 2014.

ADDRESSES: The documents are available on our Web site: http://www.fws.gov/ventura. A limited number of printed copies are available by request. You may request the documents or submit comments by any of the following methods.

• Email: fw8SHABishopPaiuteTribe@fws.gov. Include “Bishop Paiute Tribe SHA” in the subject line of the message.

• U.S. Mail: Field Supervisor; U.S. Fish and Wildlife Service; Ventura Fish and Wildlife Office; 2493 Portola Road, Suite B; Ventura, CA 93003.

• Fax: Attn: Field Supervisor, (805) 644-3958.

FOR FURTHER INFORMATION CONTACT: Eric Morrissette, Safe Harbor Coordinator, Ventura Fish and Wildlife Office at the address above or by telephone at (805) 644-1766.

SUPPLEMENTARY INFORMATION: We have received an application for an enhancement of survival permit for the federally endangered Owens pupfish (Cyprinodon radiosus) under the Act. This permit application includes a proposed safe harbor agreement (agreement) between the applicant and the Service. The agreement and permit application are available for public comment.

Availability of Documents

You may obtain copies of the documents for review by using one of the methods in ADDRESSES, or by contacting the individual named in the FOR FURTHER INFORMATION CONTACT section. You also may make an appointment to view the documents at the Ventura Fish and Wildlife Office (see ADDRESSES) during normal business hours.

Background

Under a safe harbor agreement, participating landowners voluntarily undertake management activities on their property to benefit species listed under the Act (16 U.S.C. 1531 et seq.). Safe harbor agreements, and the subsequent permits that are issued under section 10(a)(1)(A) of the Act, encourage private and other non-Federal property owners to implement conservation efforts for listed species by assuring property owners that they will not be subjected to increased land use restrictions as a result of efforts to attract or increase the numbers or distribution of a listed species on their property. Application requirements and issuance criteria for permits through safe harbor agreements are found in 50 CFR 17.22(c) and 1732(c).

We have worked with the applicant to develop this proposed agreement for the conservation of the Owens pupfish on the property subject to the agreement (enrolled property), which is Tribal Trust Land held in trust for the Tribe by the United States and managed by the applicant. The enrolled property is the Bishop Paiute Reservation in Inyo County, California, which occurs within the historic range of the Owens pupfish. Within the 875 acres of land comprising the enrolled property, a pond in the 24.8-acre Conservation Open Space Area contains suitable habitat for the Owens pupfish. The Owens pupfish will be translocated into its suitable habitat at the enrolled property according to a written agreement between the applicant and Service. Under this written agreement, the existing habitat for Owens pupfish will be managed for the species, and additional habitat for the species may be created in the future. We expect that the activities proposed in the agreement will result in the establishment of the Owens pupfish in suitable habitat that will be maintained and remain relatively undisturbed, thus resulting in a net conservation benefit for the species.

The agreement provides for the translocation and establishment of the Owens pupfish at the enrolled property, and the management of its suitable habitat. The proposed duration of the agreement and term of the enhancement of survival permit is 10 years. The agreement fully describes the proposed management activities to be undertaken by the applicant and the net conservation benefits expected to be gained for the Owens pupfish.

Upon approval of this agreement and satisfactory completion of all other applicable legal requirements, and consistent with the Service's Safe Harbor Policy published in the Federal Register on June 17, 1999 (64 FR 32717), the Service would issue a permit to the applicant authorizing take of the Owens pupfish incidental to the implementation of the management activities specified in the agreement; incidental to other lawful uses of the enrolled property, including normal, routine land management activities; and incidental to the return to pre-agreement conditions (baseline).

Management activities included in the agreement will provide for the translocation and establishment of the Owens pupfish and management of its habitat within the enrolled property. The objective of such activities is to establish a self-sustaining population of Owens pupfish within its historic range in the suitable habitat at the enrolled property. Take of Owens pupfish in the form of capture would occur during translocation activities, thereby necessitating take authority under the permit. Take incidental to activities associated with the management of Owens pupfish habitat is unlikely; however, it is possible that in the course of such activities or other lawful activities on the enrolled property, the applicant could incidentally take individuals of Owens pupfish, thereby necessitating take authority under the permit.

Baseline conditions at the enrolled property, as described in the agreement, have been established consisting of two elements, the current area of suitable habitat for Owens pupfish and the elevated presence of a population of Owens pupfish. Under the agreement, an elevated baseline for the population of Owens pupfish means that, in anticipation that translocation and establishment of the Owens pupfish is successful, the population of Owens pupfish would remain at the enrolled property at the end of the agreement term where there currently is no population of Owens pupfish and under other circumstances the baseline for the species presence could be zero. The elevated baseline has been established to aid in reaching recovery objectives for the Owens pupfish with the intent to create and maintain a self-sustaining population of the Owens pupfish at the enrolled property. The applicant must maintain baseline on the enrolled property in order to receive coverage regarding incidental take of Owens pupfish. The agreement and requested permit would allow the applicant to return the enrolled property to baseline conditions for habitat, and to the elevated baseline for the Owens pupfish population, after the end of the term of the agreement and prior to the expiration of the 10-year permit, if so desired by the applicant.

Public Review and Comments

The Service has made a preliminary determination that the proposed agreement and permit application are eligible for categorical exclusion under the National Environmental Policy Act of 1969 (NEPA) (42 U.S.C. 4321 et seq.). We explain the basis for this determination in an Environmental Action Statement, which also is available for public review.

Individuals wishing copies of the permit application, copies of our draft Environmental Action Statement, and copies of the agreement, including a map of the proposed permit area, should contact the Ventura Fish and Wildlife Office (see ADDRESSES).

If you wish to comment on the permit application or the agreement, you may submit your comments to one of the addresses listed in the ADDRESSES section of this document. Comments and materials received, including names and addresses of respondents, will be available for public review, by appointment, during normal business hours at the address in the ADDRESSES section above and will become part of the public record, under section 10(c) of the Act.

Before including your address, phone number, email address, or other personal identifying information in your comment, you should be aware that your entire comment—including your personal identifying information—may be made publicly available at any time. While you can ask us in your comment to withhold your personal identifying information from public review, we cannot guarantee that we will be able to do so.

We will evaluate this permit application, associated documents, and comments we receive to determine whether the permit application meets the requirements of section 10(a) of the Act and NEPA regulations. If we determine that the requirements are met, we will sign the proposed agreement and issue an enhancement of survival permit under section 10(a)(1)(A) of the Act to the applicant for take of the Owens pupfish incidental to otherwise lawful activities in accordance with the terms of the agreement. We will not make our final decision until after the end of the 30-day comment period and will fully consider all comments we receive during the comment period.

The Service provides this notice under section 10(c) of the Act and under implementing regulations for NEPA (40 CFR 1506.6).

Stephen P. Henry,
Field Supervisor, Ventura Fish and Wildlife Office.

[FR Doc. 2014-16827 Filed 7-16-14; 8:45 am]

BILLING CODE 4310-55-P